DEPARTMENT OF ENERGY

10 CFR Part 431

[Docket No. EERE-2015-BT-STD-0008]

RIN 1904-AD52

Energy Conservation Program for Certain Industrial Equipment: Energy Conservation Standards for Dedicated-Purpose Pool Pumps

AGENCY: Office of Energy Efficiency and Renewable Energy, Department of Energy.

ACTION: Reopening of public comment period.

SUMMARY: On May 8, 2015, the U.S. Department of Energy (DOE) published in the Federal Register (80 FR 26475) a Request for Information (RFI) that requests information regarding potential energy efficiency standards for pool pumps established under the Energy Policy and Conservation Act. DOE published the RFI to solicit information to help DOE determine the feasibility of developing energy conservation standards and an appropriate test procedure for this equipment. The RFI outlines the potential scope that could be involved in regulating dedicated-purpose pool pumps, possible industry-based testing methods that could be used to evaluate the efficiency of this equipment, and the types of information that would be needed in analyzing the potential for setting standards for this equipment. It also solicits the public for information to help inform DOE's efforts in evaluating the prospect of regulating this equipment. The comment period for the RFI pertaining to the subject dedicated-purpose pool pumps was scheduled to end June 22, 2015. After receiving a request for additional time to comment, DOE has decided to reopen the comment period for the RFI pertaining to the potential energy efficiency standards for pool pumps until August 17, 2015.

DATES: DOE will accept comments, data, and information regarding the notice of proposed rulemaking no later than August 17, 2015.

ADDRESSES: Instructions: All comments submitted must identify the RFI for Energy Conservation Standards for Dedicated-Purpose Pool Pumps, and provide docket number EERE-2015-BT-STD-0008 and/or regulatory information number (RIN) number 1904-AD52. Comments may be submitted using any of the following methods:

1. Federal eRulemaking Portal: www.regulations.gov. Follow the instructions for submitting comments.

2. Email: PoolPumps2015STD0008@ee.doe.gov. Include the docket number and/or RIN in the subject line of the message. Submit electronic comments in Word Perfect, Microsoft Word, PDF, or ASCII file format, and avoid the use of special characters or any form on encryption.

3. Postal Mail: Ms. Brenda Edwards, U.S. Department of Energy, Building Technologies Office, Mailstop EE-5B, 1000 Independence Avenue SW., Washington, DC 20585-0121. If possible, please submit all items on a compact disc (CD), in which case it is not necessary to include printed copies.

4. Hand Delivery/Courier: Ms. Brenda Edwards, U.S. Department of Energy, Building Technologies Office, 950 L'Enfant Plaza SW., Suite 600, Washington, DC 20024. Telephone: (202) 586-2945. If possible, please submit all items on a CD, in which case it is not necessary to include printed copies.

No telefacsimilies (faxes) will be accepted.

Docket: The docket, which includes Federal Register notices, public meeting attendee lists and transcripts, comments, and other supporting documents/materials, is available for review at www.regulations.gov. All documents in the docket are listed in the www.regulations.gov index. However, not all documents listed in the index may be publically available, such as those containing information that is exempt from public disclosure.

A link to the docket Web page can be found at: http://www.regulations.gov/#!docketDetail;D=EERE-2015-BT-STD-0008. This Web page contains a link to the docket for this notice on the www.regulations.gov site. The www.regulations.gov Web page contains simple instructions on how to access all documents, including public comments, in the docket.

For further information on how to submit a comment or review other public comments and the docket, contact Ms. Brenda Edwards at (202) 586-2945 or by email: Brenda.Edwards@ee.doe.gov.

FOR FURTHER INFORMATION CONTACT: Mr. John Cymbalsky, U.S. Department of Energy, Office of Energy Efficiency and Renewable Energy, Building Technologies Office, EE-5B, 1000 Independence Avenue SW., Washington, DC 20585-0121. Telephone: (202) 287-1692. Email: pumps@ee.doe.gov.

Mr. Michael Kido, U.S. Department of Energy, Office of the General Counsel, GC-33, 1000 Independence Avenue SW., Washington, DC 20585-0121. Telephone: (202) 586-8145. Email: michael.kido@hq.doe.gov.

For information on how to submit or review public comments and the docket, contact Ms. Brenda Edwards at (202) 586-2945 or by email: Brenda.Edwards@ee.doe.gov.

SUPPLEMENTARY INFORMATION: DOE published an RFI in the Federal Register to solicit information to help DOE determine the feasibility of developing energy conservation standards and an appropriate test procedure for this equipment. The RFI also solicited the public for information to help inform DOE's efforts in evaluating the prospect of regulating this equipment. The comment deadline had been set for June 22, 2015.

The Association of Pool & Spa Professionals requested a 90-day extension of the comment period to sufficiently prepare and submit comments. After careful consideration of the request, DOE has determined that reopening the comment period to allow additional time for interested parties to submit comments is appropriate based on the foregoing reason. Specifically, DOE believes that reopening the comment period by 45 days will provide the public with sufficient time to submit comments responding to DOE's RFI. Accordingly, DOE is reopening the comment period and will deem any comments received (or postmarked) to be timely submitted.

Issued in Washington, DC, on June 25, 2015.
Kathleen B. Hogan,
Deputy Assistant Secretary for Energy Efficiency, Energy Efficiency and Renewable Energy.

[FR Doc. 2015-16344 Filed 7-1-15; 8:45 am]

BILLING CODE 6450-01-P